DEPARTMENT OF VETERANS AFFAIRS

VA New Hampshire Vision 2025 Task Force

The Department of Veterans Affairs (VA) gives notice under the Federal Advisory Committee Act that the VA New Hampshire Vision 2025 Task Force, which is a subcommittee of the Special Medical Advisory Group (SMAG), will meet January 9, 2018 from 8:00 a.m.-5:00 p.m. ET and January 10, 2018 from 8:00 a.m.-5:00 p.m. ET at the Department of Veterans Affairs, Manchester VA Medical Center, 718 Smyth Road Manchester, NH 03104, Building 1, 1st Floor, Training & Education Room. There will also be a teleconference line available for those attendees unable to attend in person. The meeting is open to the public.

The purpose of the subcommittee is to develop a comprehensive set of options and recommendations to develop a future vision of what VA must do to best meet the needs of New Hampshire Veterans. The recommendations will be reviewed by the SMAG and then those final recommendations will be forwarded to the Secretary and Under Secretary for Health for decision and action.

The agenda will include an update on the ongoing VA-led national market assessment project and facilitated sessions with task force members as they synthesize the various data and focus group inputs from the various VA and non-VA support they have received so far. The listen only teleconference line is reached by dialing 1-800-767-1750 and then entering the access code: 91129#. However, there are a limited number of lines. Consequently, if more than one person at an organization wants to join, we encourage you to use one phone line to allow other organization to listen. Otherwise, you are welcome to join in person. No time will be allocated at this meeting for receiving oral presentations from the public. However, the public may submit written statements for the Subcommittee's review to Brenda Faas, Designated Federal Officer, Department of Veterans Affairs at Brenda.Faas@va.gov, or Thomas Pasakarnis, Alternate Designated Federal Officer, Department of Veterans Affairs at Thomas.Pasakarnis@va.gov. Any member of the public wishing to attend the meeting or listen in via the teleconference line or seeking additional information should contact Mr. Pasakarnis.

Because the meeting will be held in a federal government building, anyone attending must be prepared to show a valid photo government issued ID. Please allow 15 minutes before the meeting begins for this process.

Dated: December 19, 2017.
LaTonya L. Small,
Federal Advisory Committee Management Officer.

[FR Doc. 2017-27594 Filed 12-21-17; 8:45 am]

BILLING CODE P